DEPARTMENT OF COMMERCE

Minority Business Development Agency

Proposed Information Collection; Comment Request; National Minority Enterprise Development (MED) Week Awards Program

AGENCY: Minority Business Development Agency, Commerce.

ACTION: Proposed Information Collection; Comment Request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(C)(2)(A)).

DATES: Written comments must be submitted on or before February 20, 2009.

ADDRESSES: Direct all written comments to Diana Hynek, Departmental Paperwork Clearance Officer, U.S. Department of Commerce, Room 7845, 1401 Constitution Avenue, NW., Washington, DC 20230, or via e-mail at dHynek@doc.gov.

FOR FURTHER INFORMATION CONTACT: Requests for additional information or copies of the information collection instrument and instructions should be directed to the Stephen Boykin, MED Week Awards Manager, Minority Business Development Agency, U.S. Department of Commerce, Room 5090, 1401 Constitution Avenue, NW., Washington, DC, 20230; telephone: 202-482-1712; e-mail: sboykin@mbda.gov.

SUPPLEMENTARY INFORMATION:

I. Abstract

The Minority Business Development Agency (MBDA) is the only federal agency created exclusively to foster the establishment and growth of minority-owned businesses in the United States. For this purpose, a minority-owned business must be owned or controlled by one or of the following persons or groups of persons: African American, American Indian, Alaska Native, Asian, Hispanic, Native Hawaiian, Pacific Islander, Asian Indian, and Hasidic Jew. MBDA actively promotes the growth and competitiveness of large, medium, and small minority business enterprises by offering management and technical assistance through a network of regional and local business centers throughout the United States.

One of MBDA's largest initiatives is the annual Regional and National Minority Enterprise Development (MED) Week Conferences. The conferences recognizes the role that minority entrepreneurs play in building the Nation's economy through the creation of jobs, products and services, in addition to supporting their local communities. It includes the private, non-profit, and government sectors and provides a venue to discuss critical business issues affecting minority business as well as strategies to foster the growth and competitiveness of the minority business community. The MED Week Awards Program is a key element of the conferences and celebrates the outstanding achievements of minority entrepreneurs. MBDA may make awards in the following categories: Minority Construction Firm of the Year, Minority Manufacturer of the Year, Minority Service Firm of the Year, Minority Technology Firm of the Year, Minority Supplier Distributer of the Year, Advocate of the Year, Media Award, Distinguished Supplier Diversity Award, Access to Capital Award, Ronald H. Brown Leadership Award, and the Abe Venable Legacy Award for Lifetime Achievement. All awards with the exception of the Ronald H. Brown Leadership Award and the Abe Venable Legacy Award for Lifetime Achievement will be presented at both MBDA Regional and National MED Weeks. The Ronald H. Brown Leadership Award and the Abe Venable Legacy Award for Lifetime Achievement will be presented only at National MED Week.

Nominations for these awards are open to the public. MBDA must collect two types of information: (a) Information identifying the nominee and nominator, and (b) information explaining why the nominee should be given the award. The information will be used to determine those applicants best meeting the preannounced evaluation criterion. Use of a nomination form standardizes and limits the information collected as part of the nomination process. This makes the competition fair and eases the burden on applicants and reviewers. Participation in the MED Week Awards Program competition is voluntary and the awards are strictly honorary.

II. Method of Collection

The form may be submitted electronically or paper format.

III. Data

OMB Control Number: None (new collection).

Form Number: Not applicable.

Type of Review: Regular submission.

Affected Public: Business or other for-profit organizations, not-for-profit institutions, state, local and tribal government, Federal government.

Estimated Number of Respondents: 100.

Estimated Time Per Response: 2 hours.

Estimated Total Annual Burden Hours: 200 hours.

Estimated Total Annual Cost to the Public: $0.

IV. Requests for Comments

Comments are invited on: (a) Whether the proposed collection of information is necessary for the proper performance of the functions of the Agency, including whether the information shall have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 16, 2008.
Gwellnar Banks,
Management Analyst, Office of the Chief Information Officer.

[FR Doc. E8-30264 Filed 12-19-08; 8:45 am]

BILLING CODE 3510-21-P